DEPARTMENT OF HEALTH AND HUMAN SERVICES

National Institutes of Health

Proposed Collection; Comment Request; Health Information National Trends Survey 4 (HINTS 4) (NCI)

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: Health Information National Trends Survey 4 (HINTS 4) (OMB 0925-0538, Exp 11/30/2008). Type of Information Collection Request: Reinstatement with Change. Need and Use of Information Collection: HINTS 4 will provide NCI with a comprehensive assessment of the American public's current access to, and use of, information about cancer across the cancer care continuum from cancer prevention, early detection, diagnosis, treatment, and survivorship. The content of the survey will focus on understanding the degree to which members of the general population understand vital cancer prevention messages. More importantly, this NCI survey will couple knowledge-related questions with inquiries into the communication channels through which understanding is being obtained, and assessment of cancer-related behavior. The Public Health Services Act, Sections 411 (42 U.S.C. 285a) and 412 (42 U.S.C. 285a-1.1 and 285a-1.3), outline the research and information dissemination mission of the NCI which authorizes the collection of this information. Frequency of Response: Once. Affected Public: Individuals. Type of Respondents: U.S. adults (persons aged 18+). The annual reporting burden is documented in the table below. There are no Capital Costs, Operating Costs, and/or Maintenance Costs to report.

Data collection cycle | Type of respondent | Number of respondents | Frequency of response | Average time per response minutes/hour | Annual hour burden
Cycle 1 | Mail survey | 3,533 | 1 | 30/60 (.5) | 1,766.5
Cycle 2 | Mail survey | 3,533 | 1 | 30/60 (.5) | 1,766.5
Cycle 3 | Mail survey | 3,500 | 1 | 30/60 (.5) | 1,750
Cycle 4 | Mail survey | 3,500 | 1 | 30/60 (.5) | 1,750
Total |  |  |  |  | 7,033

Request for Comments: Written comments and/or suggestions from the public and affected agencies are invited on one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact Bradford W. Hesse, PhD, Project Officer, National Cancer Institute, NIH, EPN 4068, 6130 Executive Boulevard, MSC 7365, Bethesda, Maryland 20892-7365, or call non-toll free number 301-594-9904 or fax your request to 301-480-2198, or e-mail your request, including your address, to hesseb@mail.nih.gov.

Comments Due Date: Comments regarding this information collection are best assured of having their full effect if received within 60 days of the date of this publication.

Dated: April 18, 2011.
Vivian Horovitch-Kelley,
NCI Project Clearance Liaison, National Institutes of Health.

[FR Doc. 2011-9827 Filed 4-21-11; 8:45 am]

BILLING CODE 4140-01-P